DEPARTMENT OF ENERGY

Federal Energy Regulatory Commission

Combined Notice of Filings #1

December 28, 2009.

Take notice that the Commission received the following electric rate filings:

Docket Numbers: ER09-1287-003.

Applicants: Lumberton Energy, LLC.

Description: Supplement to Notice of Non-Material Change in Status of Lumberton Energy, LLC.

Filed Date: 12/23/2009.

Accession Number: 20091223-5161.

Comment Date: 5 p.m. Eastern Time on Wednesday, January 13, 2010.

Docket Numbers: ER10-458-000; ER10-459-000; ER10-460-000.

Applicants: Solios Power Trading LLC, Solios Power Midwest Trading LLC, Solios Power Trading LLC.

Description: Application for Market Based Rate Authority, Related Blanket Waivers and Authorization, and Submission of Initial Rate Schedules re Solios Power Mid Atlantic Trading LLC et al.

Filed Date: 12/23/2009.

Accession Number: 20091224-0070.

Comment Date: 5 p.m. Eastern Time on Wednesday, January 13, 2010.

Docket Numbers: ER10-468-000.

Applicants: Google Energy LLC.

Description: Application of Google Energy LLC for Market Based Rate Authority and Granting of Waivers and Blanket Authority.

Filed Date: 12/23/2009.

Accession Number: 20091224-0071.

Comment Date: 5 p.m. Eastern Time on Wednesday, January 13, 2010.

Take notice that the Commission received the following electric reliability filings.

Docket Numbers: RD10-7-000.

Applicants: North America Electric Reliability Council.

Description: Compliance Filing of NERC in Response to Paragraphs 143, 156, 164, 168, 173, 179, and 187 of Order No. 716.

Filed Date: 12/18/2009.

Accession Number: 20091218-5238.

Comment Date: 5 p.m. Eastern Time on Friday, January 8, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-31355 Filed 1-4-10; 8:45 am]

BILLING CODE 6717-01-P